DEPARTMENT OF DEFENSE

Department of the Navy

Notice of Availability of Government-Owned Inventions; Available for Licensing

AGENCY: Department of the Navy, DoD.

ACTION: Notice.

SUMMARY: The inventions listed below are assigned to the United States Government, as represented by the Secretary of the Navy and are available for domestic and foreign licensing by the Department of the Navy.

The following patents are available for licensing: Patent No. 8,904,736: VEHICLE AND MAST MOUNTING ASSEMBLY//Patent No. 8,902,801: ARRAY SYSTEM FOR SEGMENTING SIGNALS AND GENERATING A COMPLEX WAVEFORM AT A FOCAL POINT USING RECOMBINATION OF SEGMENTED SIGNALS//Patent No. 9,001,864: USE OF WAVELET TRANSFORMS TO PRODUCE COMPLEX WAVEFORMS FROM A REDUCED NUMBER OF DISCRETE FREQUENCY TRANSMITTERS//Patent No. 9,083,418: VERSATILE ANTENNA RECEIVED SIGNAL STRENGHT MEASUREMENT SYSTEM NOT AFFECTING ANTENNA PATTERN AND RECEIVER PERFORMANCE//Patent No. 8,973, 502: SIMULTANEOUS NONELECTRIC PRIMING ASSEMBLY AND METHOD//Patent No. 8,907,225: STRUCTURES AND METHODS RELATED TO DETECTION, SENSING AND/OR MITIGATING UNDESIREABLE STRUCTURES OR INTRUSION EVENTS ON STRUCTURES//Patent No. 9,080,989 WHISKER MANUFACTURING, DETECTION, RESPONSE, AND COMPOUND MANUFACTURING APPARATUS AND METHOD//Patent No. 9,244,791 FUSION OF MULTIPLE MODALITIES FOR DETERMING A UNIQUE MICROELECTRONIC DEVICE SIGNATURE//Patent No. 9,079,211 INTERGRANULAR CORROSION AND INTERGRANULAR STRESS CORROSION CRACKING RESISTANCE IMPROVEMENT METHOD FOR METALLIC ALLOYS//Patent No. 9,263,139 METHOD AND SYSTEM FOR IMPROVING THE RADIATION TOLERANCE OF FLOATING GATE MEMORIES.

ADDRESSES: Requests for copies of the patents cited should be directed to Naval Surface Warfare Center, Crane Div, Code OOL, Bldg 2, 300 Highway 361, Crane, IN 47522-5001.

FOR FURTHER INFORMATION CONTACT: Mr. Christopher Monsey, Naval Surface Warfare Center, Crane Div, Code OOL, Bldg 2, 300 Highway 361, Crane, IN 47522-5001, telephone 812-854-4100.

Authority: 35 U.S.C. 207, 37 CFR part 404.

Dated: March 28, 2016.
C. Pan,
Lieutenant, Judge Advocate General's Corps, U.S. Navy, Alternate Federal Register Liaison Officer.

[FR Doc. 2016-07431 Filed 3-31-16; 8:45 am]

BILLING CODE 3810-FF-P